DEPARTMENT OF HEALTH AND HUMAN SERVICES

National Institutes of Health

Center for Scientific Review; Amended Notice of Meeting

Notice is hereby given of a change in the meeting of the Center for Scientific Review Special Emphasis Panel, July 12, 2005, 1 p.m. to July 12, 2005, 2 p.m., Hyatt Regency Bethesda, One Bethesda Metro Center, 7400 Wisconsin Avenue, Bethesda, MD 20814 which was published in the Federal Register on June 22, 2005, 70 FR 36198-36200.

The meeting will be held on July 11, 2005, from 4:40 p.m. to 6 p.m. The meeting location remains the same. The meeting is closed to the public.

Dated: July 5, 2005.
LaVerne Y. Stringfield,
Director, Office of Federal Advisory Committee Policy.

[FR Doc. 05-13822 Filed 7-12-05; 8:45 am]

BILLING CODE 4140-01-M